ENVIRONMENTAL PROTECTION AGENCY

[FRL-7094-2]

2002 Resource Conversation and Recovery Act National Meeting

AGENCY: Environmental Protection Agency.

ACTION: Notice of public invitation to Resource Conservation and Recovery Act National Meeting.

SUMMARY: Notice is hereby given of public invitation to the 2002 Resource Conservation and Recovery Act (RCRA) National Meeting, “Partnerships for Cleaner Communities.” This meeting, January 15-18, 2002, brings together RCRA program representatives from the Environmental Protection Agency (EPA), States, Tribes and the community. The National Meeting will explore future management issues of hazardous and nonhazardous (industrial, municipal and other) waste. The RCRA National Meeting is a great opportunity to share with, and learn from, each other. It promotes new EPA initiatives and fosters discussion and education concerning Regional, State and tribal issues.

DATES: For the first time, attendance at the National Meeting will be fully open to the general public. The RCRA National Meeting will start at 8:30 a.m. on Tuesday, January 15, 2002 and end at 12 p.m. on Friday, January 18, 2002.

ADDRESSES: The 2002 RCRA National Meeting will be held at the Hyatt Regency Washington on Capitol Hill at 400 New Jersey Avenue, NW., Washington, DC. More information will be made available upon registration.

FOR FURTHER INFORMATION CONTACT: Anita Cummings (703-308-8303), Office of Solid Waste, Mail Code 5303W, U.S. Environmental Protection Agency, 1200 Pennsylvania Avenue, NW., Washington DC 20460. You may also contact Anita by e-mail at cummings.anita@epa.gov.

SUPPLEMENTARY INFORMATION:

Status

Preregistration is required for meeting attendance. There is no cost to register. No registration will occur at the door. The number of participants will be limited and registrations will be confirmed in the order in which they are received. To reduce costs and save paper, we encourage you to register electronically for the meetings and for overnight accommodations using the meeting Web site: http://www.epa.gov/osw/meeting/index.htm. If electronic registration is not possible, please telephone Anita Cummings or Melissa Galyon.

Dated: October 5, 2001.
Elizabeth Cotsworth,
Director, Office of Solid Waste.

[FR Doc. 01-27286 Filed 10-29-01; 8:45 am]

BILLING CODE 6560-50-P